NUCLEAR REGULATORY COMMISSION

Advisory Committee on Reactor Safeguards; Revised Meeting Notice

The agenda for the 542nd ACRS meeting, scheduled to be held on May 3-5, 2007, has been revised as noted below. Notice of this meeting was previously published in the Federal Register on Wednesday, April 18, 2007 (72 FR 19552).

The discussion of the topic on the Commission Paper on Rulemaking to Make Risk-Informed Changes to Loss-of-Coolant Accident Technical Requirements; 10 CFR 50.46a, “Acceptance Criteria for Emergency Core Cooling Systems for Light-Water Nuclear Power Reactors,” scheduled to be held on Thursday, May 3, 2007 between 8:35 a.m. and 10:30 a.m., is postponed to a future meeting due to the unavailability of the Commission Paper. The discussion of the item on Digital Instrumentation and Control System Matters, scheduled to be held between 10:45 a.m. and 12:15 p.m., is now scheduled between 8:35 a.m. and 10:30 a.m.

The discussion of the item on ACRS members' Issues associated with the Technology-Neutral Framework for Future Plant Licensing, scheduled between 8:35 a.m. and 10:30 a.m. on Friday May 4, 2007, is now scheduled between 3 p.m.-5 p.m. on Thursday, May 3, 2007. The times for other items scheduled for Thursday, May 3 and Friday, May 4, 2007, previously published in the Federal Register, have been adjusted as noted in the revised agenda to facilitate effective use of the Committee's time. A revised agenda is posted on the NRC Web site at http://www.nrc.gov/reading-rm/adams.html or http://www.nrc.gov/reading-rm/doc-collections/ (ACRS & ACNW Mtg schedules/agendas).

For further information, contact: Mr. Sam Duraiswamy, ACRS, (Telephone: 301-415-7364), between 7:30 a.m. and 4 p.m., ET.

Dated: April 20, 2007.
Andrew L. Bates,
Advisory Committee Management Officer.

[FR Doc. E7-8031 Filed 4-25-07; 8:45 am]

BILLING CODE 7590-01-P